DEPARTMENT OF COMMERCE

International Trade Administration

[A-357-804]

Silicon Metal From Argentina: Final Results of Antidumping Duty Administrative Review

AGENCY: Import Administration, International Trade Administration, Department of Commerce.

ACTION: Notice of final results of antidumping duty administrative review.

SUMMARY: On October 12, 1999, the Department of Commerce published the preliminary results of the administrative review of the antidumping duty order on silicon metal from Argentina. We preliminarily determined that sales of the subject merchandise were not made below normal value. This review covers one producer/exporter, Electrometalurgica Andina S.A.I.C. (“Andina”) and the period September 1, 1997 through August 31, 1998.

We gave interested parties an opportunity to comment on the preliminary results. No comments were received. Therefore, we have made no changes for the final results. We have determined that Andina has not made sales below normal value during the period of review. Accordingly, we will instruct the U.S. Customs Service not to assess antidumping duties on entries subject to this review.

EFFECTIVE DATE: February 3, 2000.

FOR FURTHER INFORMATION CONTACT: Helen M. Kramer or Linda Ludwig, Import Administration, International Trade Administration, U.S. Department of Commerce, 14th Street and Constitution Avenue, N.W., Washington, D.C. 20230; telephone (202) 482-0405 or 482-3833, respectively.

APPLICABLE STATUTE AND REGULATIONS: Unless otherwise indicated, all citations to the Trade and Tariff Act of 1930, as amended (the Act) are references to the provisions effective January 1, 1995, the effective date of the amendments made to the Act by the Uruguay Round Agreements Act of 1994 (URAA). In addition, unless otherwise indicated, all references to the Department's regulations are to 19 CFR Part 351 (1998).

SUPPLEMENTARY INFORMATION:

Background

On September 26, 1991, the Department published an antidumping duty order on silicon metal from Argentina (56 FR 48779), which was amended on July 10, 1995, pursuant to court remand (60 FR 35551). The Department published a notice of “Opportunity To Request Administrative Review” of the antidumping duty order for the 1997/1998 review period on September 11, 1998 (63 FR 49543). On September 30, 1998, the respondent, Electrometalurgica Andina S.A.I.C. (“Andina”) filed a request for review. We published a notice of initiation of this review on October 29, 1998 (63 FR 58009). This review covers the period of September 1, 1997 through August 31, 1998. On October 30, 1998, the Department sent an antidumping questionnaire to Andina. The Department received questionnaire responses in November and December 1998, and responses to the Department's supplemental questionnaires in January and February 1999.

Due to the complexity of issues involved in this case, the Department extended the time limit for completion of the preliminary results until September 30, 1999, in accordance with section 751(a)(3)(A) of the Act. On October 12, 1999, the preliminary results were published. See 64 FR 55249. The Department has now completed this review in accordance with section 751(a) of the Act. We made no changes in the calculation methodology from the preliminary results.

Scope of the Review

The product covered by this review is silicon metal. During the less-than-fair-value (LTFV) investigation, silicon metal was described as containing at least 96.00 percent, but less than 99.99 percent, silicon by weight. In response to a request by the petitioners for clarification of the scope of the antidumping duty order on silicon metal from the People's Republic of China, the Department determined that material with a higher aluminum content containing between 89 and 96 percent silicon by weight is the same class or kind of merchandise as silicon metal described in the LTFV investigation. See Final Scope Rulings—Antidumping Duty Orders on Silicon Metal From the People's Republic of China, Brazil and Argentina (February 3, 1993). Therefore, such material is within the scope of the orders on silicon metal from the PRC, Brazil and Argentina. Silicon metal is currently provided for under subheadings 2804.69.10 and 2804.69.50 of the Harmonized Tariff Schedule (HTS) and is commonly referred to as a metal. Semiconductor-grade silicon (silicon metal containing by weight not less than 99.99 percent of silicon and provided for in subheading 2804.61.00 of the HTS) is not subject to this review. These HTS subheadings are provided for convenience and U.S. Customs purposes. Our written description of the scope of the proceeding is dispositive.

Verification

As provided in section 782(i)(3) of the Act, we verified sales and cost information provided by Andina at its headquarters in Buenos Aires and at its plant in San Juan, Argentina from May 17 through 28, 1999, using standard verification procedures, including inspection of the manufacturing facilities, examination of relevant sales and financial records, and selection of original documentation containing relevant information. As a result of our findings at verification, we adjusted the costs of wood chips and electricity. See “Verification of Cost at Electrometalurgica Andina S.A.I.C., San Juan and Buenos Aires, Argentina, May 17-21, 1999,” dated August 6, 1999, “Verification of Sales at Electrometalurgica Andina S.A.I.C., San Juan and Buenos Aires, Argentina, May 24-28, 1999,” dated August 6, 1999, and “Analysis of Electrometalurgica Andina S.A.I.C. for the Preliminary Results of the Administrative Review of Silicon Metal from Argentina for the Period September 1, 1997 through August 31, 1998,” dated September 10, 1999, on file in the Central Records Unit, Room B-099 of the Department.

Final Results of the Review

As a result of this review, we have determined that the following margin exists for the period September 1, 1997 through August 31, 1998:

Manufacturer/exporter | Period | Margin (percent)
Electrometalurgica Andina S.A.I.C. | 9/1/97-8/31/98 | 0.00

In accordance with 19 CFR 351.106(c)(2), the Department will instruct the Customs Service to liquidate without regard to antidumping duties all entries of the subject merchandise during the POR for which the importer-specific assessment rate is zero or de minimis (i.e., less than 0.50 percent).

Further, the following deposit requirements shall be effective for all shipments of the subject merchandise from Argentina that are entered, or withdrawn from warehouse, for consumption on or after the publication date of the final results of this administrative review, as provided for by section 751(a)(1) of the Act: (1) The cash deposit rate for Andina will be the rate established above in the “Final Results of Review” section; (2) for previously investigated companies not listed above, the cash deposit rate will continue to be the company-specific rate published for the most recent period; (3) if the exporter is not a firm covered in this review, or the original investigation, but the manufacturer is, the cash deposit rate will be the rate established for the most recent period for the manufacturer of the merchandise; and (4) the cash deposit rate for all other manufacturers or exporters of this merchandise will continue to be 17.87 percent, the all others rate established in the amended final determination of the LTFV investigation. See Notice of Amendment to Final Determination and Antidumping Duty Order: Silicon Metal From Argentina, 60 FR 35551 (July 10, 1995). The deposit requirements, when imposed, shall remain in effect until publication of the final results of the next administrative review.

This notice serves as a final reminder to importers of their responsibility under 19 CFR 351.402(f) to file a certificate regarding the reimbursement of antidumping duties prior to liquidation of the relevant entries during this review period. Failure to comply with this requirement could result in the Secretary's presumption that reimbursement of antidumping duties occurred and the subsequent assessment of double antidumping duties.

This notice serves as the only reminder to parties subject to administrative protective order (APO) of their responsibility concerning the disposition of proprietary information disclosed under APO in accordance with 19 CFR 353.34(d). Timely written notification of return/destruction of APO materials or conversion to judicial protective order is hereby requested. Failure to comply with the regulation and the terms of an APO is a sanctionable violation.

This administrative review and notice are in accordance with sections 751(a)(1) and 777(i)(1) of the Act and 19 CFR 351.221.

Dated: January 24, 2000.
Robert S. LaRussa,
Assistant Secretary for Import Administration.

[FR Doc. 00-2417 Filed 2-2-00; 8:45 am]

BILLING CODE 3510-DS-P